DEPARTMENT OF ENERGY

Federal Energy Regulatory Commission

[Docket No. AD23-9-000]

Reliability Technical Conference; Notice Inviting Post-Technical Conference Comments

On Thursday, November 9, 2023, the Federal Energy Regulatory Commission (Commission) convened its annual Commissioner-led Reliability Technical Conference to discuss policy issues related to the reliability of the Bulk-Power System, and the impact of the Environmental Protection Agency's proposed rule under section 111 of the Clean Air Act on electric reliability.¹

¹ New Source Performance Standards for Greenhouse Gas Emissions from New, Modified, and Reconstructed Fossil Fuel-Fired Electric Generating Units; Emission Guidelines for Greenhouse Gas Emissions from Existing Fossil Fuel-Fired Electric Generating Units; and Repeal of the Affordable Clean Energy Rule, 88 FR 33240 (proposed May 23, 2023) (to be codified at 40 CFR part 60).

All interested persons are invited to file post-technical conference comments to address issues raised during the technical conference and identified in the Second Supplemental Notice for this Technical Conference issued on October 30, 2023. For reference, the questions included in the Second Supplemental Notice are included below. Commenters need not answer all of the questions, but are encouraged to organize responses using the numbering and order in the below questions. Commenters are also invited to reference material previously filed in this docket, but are encouraged to avoid repetition or replication of their previous comments. Comments must be submitted on or before 30 days from the date of this Notice.

Comments, identified by docket number, may be filed electronically or paper-filed. Electronic filing through https://www.ferc.gov is preferred. Documents must be filed in acceptable native applications and print-to-PDF, but not in scanned or picture format. Instructions are available on the Commission's website: http://www.ferc.gov/docs-filing/efiling.asp.

Although the Commission strongly encourages electronic filing, documents may also be paper-filed. To paper-file, submissions sent via the U.S. Postal Service must be addressed to: Federal Energy Regulatory Commission, Office of the Secretary, 888 First Street NE, Washington, DC 20426. Submissions sent via any other carrier must be addressed to:

Federal Energy Regulatory Commission, Office of the Secretary, 12225 Wilkins Avenue, Rockville, Maryland 20852.

For more information about this Notice, please contact:

Michael Gildea (Technical Information), Office of Energy Reliability, (202) 502-8420, Michael.Gildea@ferc.gov.

Gonzalo E. Rodriguez (Legal Information), Office of the General Counsel, (202) 502-8568, Gonzalo.Rodriguez@ferc.gov.

Dated: November 14, 2023.
Kimberly D. Bose,
Secretary.

Post Technical Conference Questions

1. State of Bulk Power System Reliability With a Focus on the Changing Resource Mix and Resource Adequacy

The transformation of the Bulk-Power System is resulting in significant changes to the nation's power supply portfolio. These changes include increased penetrations of inverter-based resources, the increased use and importance of natural gas generating units for system balancing, and the participation of distributed energy resources. Ensuring the adequate supply of electric energy to service loads during peak hours and during extreme weather conditions is also becoming more challenging in many regions of North America.

What should the Commission's top reliability priorities be for the next one to three years? What are potential actions the Commission could take to improve reliability regarding these priorities?

(a) What trends and risks identified in NERC's 2023 State of Reliability Report and the 2023 ERO Reliability Risk Priorities Report warrant the most attention and effort?

(b) Resource adequacy traditionally has been characterized in terms of planning reserve margin, which assesses the excess generating capacity required to meet peak load. NERC and industry have recently been discussing the notion of energy adequacy, which assesses whether there is sufficient energy—power over time—to meet customers' energy needs. Is energy adequacy a more appropriate metric to characterize reliability risks given the changing grid?

(c) NERC has highlighted essential reliability services (e.g., frequency response, voltage control, and ramping capability) as core to maintaining reliable operation of the grid. How does the changing resource mix and characteristics of load affect the needed amount and provision of these essential reliability services? What actions, and by whom, are necessary to ensure adequate levels of these services?

(d) The electric grid is undergoing its most significant changes in a century. How should reliability oversight adapt to this change? Is the existing reliability oversight model flexible and agile enough to help lead the change?

(e) In recent years, reliance on natural gas as a fuel for electric generation has steadily increased. At the Commission's recommendation, the North American Energy Standards Board (NAESB) held forums between August 2022 and July 2023 to discuss the growing interdependence between the natural gas and electric sectors. NAESB issued recommendations to enhance market coordination to address challenges posed by this growing interdependence. Should the Commission prioritize pursuing any specific NAESB recommendation?

(f) Wildfires are no longer considered only a California or Western states issue for grid reliability, as drought conditions are expanding into additional regions including MISO, ERCOT and SPP creating further reliability impacts. What preparations have you taken (or are you considering) to address emerging wildfire and drought reliability risks in your region?

2. CIP Reliability Standards and the Evolving Grid

Cybersecurity vulnerabilities and threats continue to evolve at a pace that tests utility cybersecurity programs. These quickly evolving threats present a challenge when assessing whether security controls, including the CIP Reliability Standards, adequately respond to the latest cyber risks. Most utilities and other electric sector stakeholders with mature cybersecurity programs implement an overarching cybersecurity program to oversee all aspects of their cybersecurity activities, including identification of the assets to be protected, staffing, technology selection and procurement, and compliance with the CIP Reliability Standards. However, ongoing and anticipated changes to the interconnected electric grid, such as the shift in the types of energy sources used to generate electricity may disrupt cyber programs. Utilities are digitizing their grids while managing an increasing number of grid-connected devices. As a consequence, utilities require more advanced tools to process and analyze large amounts of data for grid planning, operations, and security. These changes are also leaving uncertainty as to where these digital assets will fit into the cybersecurity regulatory framework and what tools can be used to effectively manage them or even what the future may bring as cyberattacks continue to grow in sophistication.

(a) Discuss the primary security issues facing electric utilities and describe the prioritization of resources and investment. What are some lessons learned and best practices?

(b) With regard to evolving cyber threats, describe how your cybersecurity program identifies and responds to such conditions. When responding, how do you assess the risk posed to your systems by the threats?

(c) Describe the benefits and challenges of implementing and maintaining a cybersecurity program as the resource mix continues to evolve. How does this program interact with actions to comply with the CIP Reliability Standards? How does such a program help to identify and prioritize security concerns, and what actions are taken to address those concerns, including the application of best practices?

(d) Describe how supply chain security and the use of third-party systems, such as cloud services, are addressed in your risk assessments and implemented in the cybersecurity program. What concerns still exist related to supply chain and third-party systems?

(e) What additional actions can the Commission, NERC, and industry take to further protect the grid from security threats, both physical and cyber?

3. Reliability Implications of EPA's Proposed Rule on “Greenhouse Gas Standards and Guidelines for Fossil Fuel-Fired Power Plants”

On May 23, 2023, the EPA issued a notice of proposed rulemaking under section 111 of the Clean Air Act. The proposed rule would set New Source Performance Standards for new power plants that run on fossil gas.

(a) Will the rule, if implemented as proposed, affect electric reliability? In what ways?

(b) What tools and processes should the Commission, other federal and state agencies, and industry consider in order to implement the proposed rule? What authority should the Commission and other federal and state agencies have in order to address potential reliability issues that could arise during implementation of the proposed rule?

(c) What existing processes for coordination will enable federal and state agencies, planning entities, and industry stakeholders to share ongoing developments relevant to the implementation of the proposed rule?

(d) What specific tools are currently available to agencies to consider impacts to retail consumers? Are there additional tools that should be developed to consider these issues?

[FR Doc. 2023-25672 Filed 11-20-23; 8:45 am]

BILLING CODE 6717-01-P